DEPARTMENT OF JUSTICE

Notice of Lodging of Proposed Consent Decree Under the Oil Pollution Act

On July 5, 2018, the Department of Justice lodged a proposed Consent Decree with the United States District Court for the Eastern District of Louisiana in the lawsuit entitled United States of America and Louisiana v. Shell Offshore Inc., Civil Action No. 2:18-cv-6495. The United States is acting at the request of the designated federal trustees: National Oceanic and Atmospheric Administration (“NOAA”) and the United States Department of the Interior (“DOI”) through the United States Fish and Wildlife Service. The State of Louisiana is acting through its designated State trustees: The Louisiana Oil Spill Coordinator's Office, Department of Public Safety (“LOSCO”), Louisiana Department of Natural Resources (“LDNR”), Louisiana Department of Environmental Quality (“LDEQ”), Louisiana Department of Wildlife and Fisheries (“LDWF”), and the Coastal Protection and Restoration Authority (“CPRA”).

This is a civil action brought against Defendant Shell Offshore Inc. (“Shell”) for recovery of damages for injury to, destruction of, loss of, or loss of use of natural resources, under Section 1002 of the Oil Pollution Act (“OPA”), 33 U.S.C. 2702, and Section 2480 of the Louisiana Oil Spill Prevention and Response Act (“OSPRA”), La. Rev. Stat. 30:2480. The United States and Louisiana seek damages in order to compensate for and restore natural resources injured by Shell's crude oil spill that occurred at Shell's Green Canyon Block 248 subsea oil production system in the Gulf of Mexico beginning on or about May 11, 2016. The United States and the State also seek to recover unreimbursed costs of assessing such injuries.

The Complaint in this natural resource damages case was filed against Shell concurrently with the lodging of the proposed Consent Decree. The Complaint alleges that Shell is liable for damages under OPA and OSPRA. The Complaint alleges that Shell discharged crude oil into the Gulf of Mexico in May 2016 and that natural resources were injured as a result of the discharge.

Under the proposed Consent Decree, Shell will pay a total of $3,871,169.54. Of this total, Shell will pay $3.625 million to the trustees to restore, replace, or acquire the equivalent of the natural resources allegedly injured, destroyed, or lost as a result of the oil spill and $246,169.54 to reimburse the trustees for all remaining unpaid assessment costs.

The publication of this notice opens a period for public comment on the proposed Consent Decree. Comments should be addressed to the Acting Assistant Attorney General, Environment and Natural Resources Division, and should refer to United States of America and Louisiana v. Shell Offshore Inc., D.J. Ref. No. 90-5-1-1-11920. All comments must be submitted no later than thirty (30) days after the publication date of this notice. Comments may be submitted by either email or by mail:

To submit comments: | Send them to:
By email | pubcomment-ees.enrd@usdoj.gov.
By mail | Acting Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $7.50 (25 cents per page reproduction cost) payable to the United States Treasury.

Thomas Carroll,
Assistant Section Chief, Environmental Enforcement Section, Environment and Natural Resources Division.

[FR Doc. 2018-14907 Filed 7-11-18; 8:45 am]

BILLING CODE 4410-15-P